Title 3—

The President

Proclamation 10688 of December 22, 2023

Granting Pardon for the Offense of Simple Possession of Marijuana, Attempted Simple Possession of Marijuana, or Use of Marijuana

By the President of the United States of America

A Proclamation

In Proclamation 10467 of October 6, 2022 (Granting Pardon for the Offense of Simple Possession of Marijuana), I exercised my authority under the Constitution to pardon individuals who committed or were convicted of the offense of simple possession of marijuana in violation of the Controlled Substances Act and section 48-904.01(d)(1) of the Code of the District of Columbia (D.C. Code). As I have said before, convictions for simple possession of marijuana have imposed needless barriers to employment, housing, and educational opportunities. Through this proclamation, consistent with the grant of Proclamation 10467, I am pardoning additional individuals who may continue to experience the unnecessary collateral consequences of a conviction for simple possession of marijuana, attempted simple possession of marijuana, or use of marijuana. Therefore, acting pursuant to the grant of authority in Article II, Section 2, of the Constitution of the United States, I, Joseph R. Biden Jr., do hereby grant a full, complete, and unconditional pardon to all current United States citizens and lawful permanent residents who, on or before the date of this proclamation, committed or were convicted of the offense of simple possession of marijuana, attempted simple possession of marijuana, or use of marijuana, regardless of whether they have been charged with or prosecuted for these offenses on or before the date of this proclamation, in violation of:

(1) section 844 of title 21, United States Code, section 846 of title 21, United States Code, and previous provisions in the United States Code that prohibited simple possession of marijuana or attempted simple possession of marijuana;

(2) section 48-904.01(d)(1) of the D.C. Code and previous provisions in the D.C. Code that prohibited simple possession of marijuana;

(3) section 48-904.09 of the D.C. Code and previous provisions in the D.C. Code that prohibited attempted simple possession of marijuana; and

(4) provisions in the Code of Federal Regulations, including as enforced under the United States Code, that prohibit only the simple possession or use of marijuana on Federal properties or installations, or in other locales, as currently or previously codified, including but not limited to 25 C.F.R. 11.452(a); 32 C.F.R. 1903.12(b)(2); 36 C.F.R. 2.35(b)(2); 36 C.F.R. 1002.35(b)(2); 36 C.F.R. 1280.16(a)(1); 36 C.F.R. 702.6(b); 41 C.F.R. 102-74.400(a); 43 C.F.R. 8365.1-4(b)(2); and 50 C.F.R. 27.82(b)(2).

My intent by this proclamation is to pardon only the offenses of simple possession of marijuana, attempted simple possession of marijuana, or use of marijuana in violation of the Federal and D.C. laws set forth in paragraphs (1) through (3) of this proclamation, as well as the provisions in the Code of Federal Regulations consistent with paragraph (4) of this proclamation, and not any other offenses involving other controlled substances or activity beyond simple possession of marijuana, attempted simple possession of marijuana, or use of marijuana, such as possession of marijuana with intent to distribute or driving offenses committed while under the influence of marijuana. This pardon does not apply to individuals who were non-citizens not lawfully present in the United States at the time of their offense.

Pursuant to the procedures in Proclamation 10467, the Attorney General, acting through the Pardon Attorney, shall review all properly submitted applications for certificates of pardon and shall issue such certificates of pardon to eligible applicants in due course.

IN WITNESS WHEREOF, I have hereunto set my hand this twenty-second day of December, in the year of our Lord two thousand twenty-three, and of the Independence of the United States of America the two hundred and forty-eighth.

[FR Doc. 2023-28805

Filed 12-27-23; 11:15 am]

Billing code 3395-F4-P